ENVIRONMENTAL PROTECTION AGENCY

[ER-FRL-6624-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated May 18, 2001 (97 FR 27647).

Draft EISs

ERP No. D-AFS-L65372-AK Rating NS Threemile Timber Sale, Implementation, Petersburg Ranger District, Tongass National Forest, AK.

Summary: EPA Region 10 used a screening tool to conduct a limited review of this action. Based on the screen, EPA does not foresee having any environmental objections to the proposed project. Therefore, EPA will not be conducting a detailed review.

ERP No. D-AFS-L65387-AK Rating NS Helicopter Landing Tours on the Juneau Icefield 2002 to 2006, Combination Fixed-Wing and Helicopter Landing Tour Operations to Antler Glacier Lake, Special Use Permits Issuance, Tongass National Forest, City and Borough of Juneau, AK.

Summary: EPA used a screening tool to conduct a limited review of the draft EIS and based upon the screen, EPA does not foresee having any environmental objections to the proposed project. Therefore, EPA will not be conducting a detailed review.

ERP No. D-FHW-K40246-CA Rating EC2 CA-905 Freeway or Tollway Construction Project, Route Location, Adoption and Construction, Otay Mesa Port of Entry to I-805, Funding and US Army COE Section 404 Permit Issuance, San Diego County, CA.

Summary: EPA expressed environmental concerns about the project potentially restricting wildlife movement and requested additional information on the indirect and cumulative impacts of the project as well as on certain modeling assumptions.

ERP No. D-FHW-L40214-WA Rating EO2 I-405 Corridor Transportation Improvements, I-5 in the City of Tukwila to I-5 in Snohomish County, Funding and Possible COE Section 404 Permits Issuance, King and Snohomish Counties, CA.

Summary: EPA raised environmental objections to the creation of impervious surface from alternatives 3 and 4 and its effect on watersheds. EPA also expressed concerns about the insufficient assessment of cumulative effects.

ERP No. D-IBR-K39070-CA Rating EC2 American River Pump Station Project, Providing Placer County Water Agency (PCWA) with the Year-Round Access to its Middle Fork Project (MFP) Water Entitlements from the American River, Placer County, CA.

Summary: EPA expressed environmental concerns related to adverse diversion-related Cumulative impacts and proposed increase in Placer County Water Agency's (PCWA) diversion. EPA urged the Bureau and PCWA to develop alternative diversion points and to assure a long-term, sustainable balance between available water supplies, ecosystem health and water supply demand. EPA also requested that the cumulative impact analysis describe potential mitigation measures and other non-Bureau actions.

ERP No. D-NOA-E91009-00 Rating EC1 Dolphin and Wahoo Fishery Management Plan, Establishing Fishery Management Units, Stock Status Determination and Harvesting Restrictions, Initial Regulatory Flexibility Analysis, South Atlantic, Caribbean, and Gulf of Mexico.

Summary: EPA conceptually supports the proposed FMP for dolphin and wahoo and primarily defers to the expertise of the NMFS/Councils on the proposed actions. However, EPA's DEIS comments should be considered/clarified including the role of NMFS versus Councils, permit fees, EFHs in pelagic waters and FMP enforcement.

ERP No. D-TPT-K61154-CA Rating EC2, Presidio Trust Implementation Plan (PTIP), An Updated Plan for the Area B of the Presidio of San Francisco, Implementation, San Francisco Bay Area, Marin County, CA.

Summary: While general management issues are addressed by several of the alternatives, EPA expressed environmental concerns and requested additional information regarding: impacts to wetlands, traffic and air quality.

ERP No. DE-NOA-L64015-AK Rating EC2, Steller Sea Lion Protection Measures in the Alaska Groundfish Fisheries, Fishery Management Plans for Groundfish of the Gulf of Alaska and the Groundfish Fishery of the Bering Sea and Aleutian Islands Area, AK.

Summary: EPA had environmental concerns that alternatives may not adequately conserve the Steller sea lion populations because most alternatives do not address large ecological concerns such as total allowable catch, the lack of information on the long-term cumulative effects of fishing on the fishery and predators of the fish, and the lack of reasonable and prudent measures that mitigate potential future problems. EPA recommended that the final EIS address our concerns and demonstrate that alternatives would successfully protect and recover listed Steller sea lions.

Final EISs

ERP No. F-AFS-L65344-AK, Emerald Bay Timber Sale, Implementation, Ketchikan-Misty Fiords Ranger District, Tongass National Forest, U.S. Coast Guard Bridge Permit, NPDES Permit, and COE Section 10 and 404 Permits, Cleveland Peninsula, AK.

Summary: No formal comment letter was sent to the preparing agency.

ERP No. FS-SFW-B82009-00, Lake Champlain Sea Lamprey Control Long-Term Program, Proposal is to Achieve Fish Population, Recreational Fishery and Economic Benefits Associated with Reduced Sea Lamprey Predation Implementation, Clinton, Essex and Washington Counties, NY and Addison and Chittenden Counties, VT.

Summary: EPA reiterated environmental concerns about the project purpose and need, the appropriate NEPA action for new treatment areas, the time frame to treat the Poultney River, raised new concerns about dioxin contamination and advised the USFWS to continue to coordinate with the EPA on the possibility that a Clean Water Act NPDES permit may be required for lampricide applications.

Dated: November 27, 2001.
B. Katherine Biggs,
Associate Director, NEPA Compliance Division, Office of Federal Activities.

[FR Doc. 01-29788 Filed 11-29-01; 8:45 am]

BILLING CODE 6560-50-U